FEDERAL COMMUNICATIONS COMMISSION

[PS Docket No. 08-51, FCC 08-95]

Use of Non-Service Initialized Phones to Make Fraudulent 911 Calls

AGENCY: Federal Communications Commission.

ACTION: Notice.

SUMMARY: In this document, the Commission grants a Petition for Notice of Inquiry filed by nine public safety organizations and a software development firm, and seeks comment, analysis, and information in three specific areas: The nature and extent of fraudulent 911 calls made from non-service initialized (NSI) handsets; carrier and public safety authority concerns with blocking NSI phones used to make fraudulent 911 calls, and suggestions for making this a more viable solution for carriers; and other possible solutions to the problem of fraudulent 911 calls from NSI handsets.

DATES: Comments are due June 30, 2008; Reply Comments are due July 29, 2008.

ADDRESSES: You may submit comments, identified by PS Docket No. 08-51, by any of the identified methods:

• Federal eRulemaking Portal: http://www.regulations.gov. Follow the instructions for submitting comments.

• Federal Communications Commission's Web Site: http://www.fcc.gov/cgb/ecfs/. Follow the instructions for submitting comments.

• Mail: U.S. Postal Service first-class, Express, and Priority mail must be addressed to 445 12th Street, SW., Washington, DC 20554.

• People with Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: Jeffrey Cohen, Public Safety and Homeland Security Bureau at (202) 418-0799, TTY (202) 418-7172.

SUPPLEMENTARY INFORMATION: This is a summary of the Notice of Inquiry in PS Docket No. 08-41, FCC 08-95, adopted April 7, 2008, and released April 11, 2008 (“Notice”). The complete text of this document is available for inspection and copying during normal business hours in the FCC Reference Information Center, 445 12th Street, SW., Washington, DC. This document may also be obtained from the Commission's duplicating contractor, Best Copy and Printing, Inc., in person at 445 12th Street, SW., Room CY-B402, Washington, DC 20554, via telephone at (202) 488-5300, via facsimile at (202) 488-5563, or via e-mail at fcc@bcpiweb.com. Alternative formats (computer diskette, large print, audio cassette, and Braille) are available to persons with disabilities by sending an e-mail to FCC504@fcc.gov or calling the Consumer and Governmental Affairs Bureau at (202) 418-0530, TTY (202) 418-0432. This document is also available on the Commission's Web site at http://www.fcc.gov.

Synopsis of the Notice of Inquiry

1. In this Notice of Inquiry (the Notice) the Commission considers whether additional or modified rules are needed to address the problem of fraudulent 911 calls made from NSI handsets. Specifically, the Notice seeks comment on the extent of the misuse of NSI handsets, and seeks survey, and other evidence, that will allow the Commission to make this determination. The Notice also seeks comment on problems with the present call-blocking solution, including problems involved with roaming callers, other technical concerns related to blocking fraudulent 911 calls from NSI handsets, potential solutions to these technical problems, and concerns regarding legal liability connected with blocking such calls. Finally the Notice seeks to ascertain the viability of other potential solutions to the problem, including further call-back capabilities for NSI devices, elimination of call-forwarding requirements for NSI devices, and requiring carriers' donation programs to provide service-initialized phones.

Procedural Matters

2. Authority. This Notice is issued pursuant to authority contained in Sections 1, 4(i), 4(j), 303(r) and 332 of the Communications Act, as amended, 47 U.S.C. 151, 154(i), 154(j), 303(r), and 332.

3. Ex Parte Rules. There are no ex parte or disclosure requirements applicable to this proceeding pursuant to 47 CFR 1.1204(b)(1).

4. Comment Information. Pursuant to §§ 1.415 and 1.419 of the Commission's rules, 47 CFR 1.415, 1.419, interested parties may file comments and reply comments on or before the dates indicated on the first page of this document. Comments may be filed using (1) The FCC's Electronic Comment Filing System (ECFS), (2) the Federal Government's eRulemaking Portal, or (3) by filing paper copies. See Electronic Filing of Documents in Rulemaking Proceedings, 63 FR 24,121(1998).

• Electronic Filers: Comments may be filed electronically using the Internet by accessing the Electronic Comment Filing System (ECFS): http://www.fcc.gov/cgb/ecfs or the Federal eRulemaking Portal: http://www.regulations.gov. Filers should follow the instructions provided on the Web site for submitting comments.

• For ECFS filers, if multiple dockets or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

• Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington, DC 20554.

People with Disabilities: To request materials in accessible formats for people with disabilities (Braille, large print, electronic files, audio format), send an e-mail to fcc504@fcc.gov or call the Consumer & Governmental Affairs Bureau at 202-418-0530 (voice), 202-418-0432 (TTY).

Federal Communications Commission.
Marlene H. Dortch,
Secretary.

[FR Doc. E8-10661 Filed 5-14-08; 8:45 am]

BILLING CODE 6712-01-P